DEPARTMENT OF STATE

[Delegation of Authority Number 276]

Designation of Central Authority and Delegation of Authority Regarding Functions Under Treaties Governing the Return of Stolen, Embezzled, or Appropriated Vehicles and Aircraft

(1) By virtue of the authority vested in me as Secretary of State, including the authority of section 1 of the State Department Basic Authorities Act, as amended (22 U.S.C. 2651a), I hereby:

(a) Designate the Assistant Secretary for Consular Affairs and the Chief of Mission of the relevant United States Embassy as the Central Authority for the United States under treaties governing the return of stolen, embezzled, or appropriated vehicles and aircraft that do or may hereafter specify that the Central Authority is the Secretary of State or such persons designated by the Secretary of State; and

(b) delegate to the Assistant Secretary for Consular Affairs the authority to promulgate such rules and regulations as may be necessary or appropriate to carry out the functions of the Secretary of State and the Department of State under treaties that do or may hereafter govern the return of stolen, embezzled, or appropriated vehicles and aircraft.

(2) The foregoing functions may also be performed by the Secretary of State, the Deputy Secretary of State, or the Under Secretary of State for Management.

This designation of Central Authority and delegation of authority shall be published in the Federal Register.

Dated: January 2, 2005.
Colin L. Powell,
Secretary of State, Department of State.

[FR Doc. 05-3003 Filed 2-15-05; 8:45 am]

BILLING CODE 4710-08-P